GENERAL SERVICES ADMINISTRATION

Interagency Committee for Medical Records (ICMR); Revision of Optional Form 522

AGENCY: Office of Governmentwide Policy, GSA.

ACTION: Notice.

SUMMARY: The Interagency Committee on Medical Records revised Optional Form 522, Medical Record—Request for Administration of Anesthesia and for Performance of Operations and Other Procedures to add different types of operations or procedures and elaborate on counseling. You can obtain the updated form in two ways:

On the Internet. Address: http://www.gsa.gov/forms/ or;

From GSA, Forms-MCF, Attn.: Barbara Williams, (202) 501-0581.

FOR FURTHER INFORMATION CONTACT: Ms. Barbara Williams, General Services Administration, (202) 501-0581.

DATES: Effective January 8, 2004.

Dated: December 23, 2003.
Barbara M. Williams,
Deputy Standard and Optional Forms Management Officer, General Services Administration.

[FR Doc. 04-371 Filed 1-7-04; 8:45 am]

BILLING CODE 6820-34-M